DEPARTMENT OF THE INTERIOR

National Park Service

[N6886; NPS-WASO-NAGPRA-NPS0041884; PPWOCRADN0-PCU00RP14.R50000]

Notice of Intended Repatriation: Kalamazoo Valley Museum, Kalamazoo, MI

AGENCY: National Park Service, Interior.

ACTION: Notice.

SUMMARY: In accordance with the Native American Graves Protection and Repatriation Act (NAGPRA), the Kalamazoo Valley Museum intends to repatriate certain cultural items that meet the definition of unassociated funerary objects, sacred objects, and/or objects of cultural patrimony and that have a cultural affiliation with the Indian Tribes or Native Hawaiian organizations in this notice.

DATES: Repatriation of the cultural items in this notice may occur on or after February 27, 2026.

ADDRESSES: Send additional, written requests for repatriation of the cultural items in this notice to Regina Gorham, Collections Manager for the Kalamazoo Valley Museum, 230 N Rose Street, Kalamazoo, MI 49007, email rgorham@kvcc.edu.

SUPPLEMENTARY INFORMATION: This notice is published as part of the National Park Service's administrative responsibilities under NAGPRA. The determinations in this notice are the sole responsibility of the Kalamazoo Valley Museum, and additional information on the determinations in this notice, including the results of consultation, can be found in the summary or related records. The National Park Service is not responsible for the determinations in this notice.

Abstract of Information Available

A total of five cultural items have been requested for repatriation. The five sacred objects/objects of cultural patrimony are baskets. The donor of the objects is the Kalamazoo Institute of Arts, who received the baskets from Donald S. Gilmore. Donald S. Gilmore and Genevieve Upjohn are members of two families that have for decades been involved in businesses, arts and culture and more in Kalamazoo and the surrounding area. Donald comes from the Gilmore Brother's Department Store family, where he worked before joining his step-father at the Upjohn Company (now Pfizer) in 1929. He and Genevieve married in 1916. The pair spent much of their time and money in philanthropic pursuits in Kalamazoo, donating money and time to a variety of institutions. Their art collection makes up a large portion of the collection of the Kalamazoo Institute of Arts having donated 2,400 pieces over the years. Genevieve enjoyed painting and photography and the couple had a home at Smoke Tree Ranch in Palm Springs, California where she photographed the landscape. In the Museum's collection, other donation from the couple including photos of themselves, and some furniture pieces made in Japan.

Determinations

The Kalamazoo Valley Museum has determined that:

• The five sacred objects/objects of cultural patrimony described in this notice are, according to the Native American traditional knowledge of an Indian Tribe or Native Hawaiian organization, specific ceremonial objects needed by a traditional Native American religious leader for present-day adherents to practice traditional Native American religion, and have ongoing historical, traditional, or cultural importance central to the Native American group, including any constituent sub-group (such as a band, clan, lineage, ceremonial society, or other subdivision).

• There is a connection between the cultural items described in this notice and the Agua Caliente Band of Cahuilla Indians of the Agua Caliente Indian Reservation, California.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after February 27, 2026. If competing requests for repatriation are received, the Kalamazoo Valley Museum must determine the most appropriate requestor prior to repatriation. Requests for joint repatriation of the cultural items are considered a single request and not competing requests. The Kalamazoo Valley Museum is responsible for sending a copy of this notice to the Indian Tribes and Native Hawaiian organizations identified in this notice and to any other consulting parties.

Authority: Native American Graves Protection and Repatriation Act, 25 U.S.C. 3004 and the implementing regulations, 43 CFR 10.9.

Dated: January 15, 2026.
Melanie O'Brien,
Manager, National NAGPRA Program.

[FR Doc. 2026-01672 Filed 1-27-26; 8:45 am]

BILLING CODE 4312-52-P